DEPARTMENT OF ENERGY

Federal Energy Regulatory Commission

Notice of Application for Surrender of Exemption and Soliciting Comments, Motions To Intervene, and Protests

August 4, 2004.

Take notice that the following hydroelectric application has been filed with the Commission and is available for public inspection:

a. Application Type: Surrender of exemption.

b. Project No.: 11576-003.

c. Date Filed: July 6, 2004.

d. Applicant: Mohave Water Agency.

e. Name of Proposed Project: Rock Springs Hydroelectric Project.

f. Location: On the Mohave River, in San Bernardino County, California. The project does not utilize Federal or tribal lands.

g. Filed Pursuant to: Federal Power Act, 16 U.S.C. 791a-825r.

h. Applicant Contact: Mr. Michael Limbaugh, Engineering Controller, 22450 Headquarters Drive, Post Office Box 1089, Apple Valley, CA 92307-0019, (760) 240-9201.

i. FERC Contact: Tom Papsidero, (202) 502-6002.

j. Deadline for filing comments, protests, and motions to intervene: September 7, 2004.

All documents (original and eight copies) should be filed with: Ms. Magalie R. Salas, Secretary, Federal Energy Regulatory Commission, 888 First Street, NE., Washington, DC 20426. Please include the project number on any comments or motions filed.

Comments, protests and interventions may be filed electronically via the Internet in lieu of paper. See 18 CFR 385.2001(a)(1)(iii) and the instructions on the Commission's Web site under the “e-Filing” link. The Commission strongly encourages electronic filings.

k. Description of Filing: The exemptee states that its unconstructed 2.6-MW Rock Springs Hydroelectric Project will not be developed and is voluntarily surrendering its exemption.

l. Locations of Application: A copy of the filing is available for inspection and reproduction at the Commission in the Public Reference Room, located at 888 First Street, NE., Room 2A, Washington, DC 20426. This filing may also be viewed on the Commission's Web site at http://www.ferc.gov using the “eLibrary” link. Enter the docket number in the docket number field to access the document. For assistance contact FERC online support at FERCOnlineSupport@ferc.gov. or call toll-free 1-866-208-3676. For TTY call (202) 502-8659. A copy is also available for inspection and reproduction at the address in item h. above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's rules may become a party to the proceeding. Any comments, protests, or motions to intervene must be received on or before the specified comment date for the particular application.

o. Filing and Service of Responsive Documents—Any filings must bear in all capital letters the title “COMMENTS”, “PROTEST”, or “MOTION TO INTERVENE”, as applicable, and the Project Number of the particular application to which the filing refers. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E4-1767 Filed 8-10-04; 8:45 am]

BILLING CODE 6717-01-P